DEPARTMENT OF DEFENSE

Office of the Secretary

Notice of the Defense Acquisition Performance Assessment Project Meetings

AGENCY: Department of Defense.

ACTION: Notice.

SUMMARY: Pursuant to the Federal Advisory Committee Act (FACA), Public Law 96-463, notice is hereby given that the Defense Acquisition Performance Assessment (DAPA) Project will hold a public meeting at the Anteon Conference Center, 1560 Wilson Blvd., Suite 400, Arlington, VA 22209, on December 14, 2005.

Purpose: Final DAPA Project Panel Meeting. Panel members will present to the public the Panel's recommendations for acquisition system performance improvements for the Department of Defense. Any interested citizens are encouraged to attend the meetings open to the public, subject to the availability of space.

DATES: December 14, 2005, 2 p.m.-4 p.m.

This notice is being published in less than the 15 calendar days required by law due to short notice changes in panel and DAPA staff schedules.

Location: Anteon Conference Center, 1560 Wilson Blvd., Suite 400, Arlington, VA 22209.

FOR FURTHER INFORMATION CONTACT: Any member of the public wishing further information concerning this meeting or wishing to submit comments must contact: Lt Col Rene Bergeron, Assistant Director of Staff, Defense Acquisition Performance Assessment Project, 1010 Defense Pentagon, Rm 3A873, Washington, DC 20330-1670. Telephone: (703) 697-3420. DSN: 225-3420. Fax: (703) 697-3511. rene.bergeron@pentagon.af.mil.

Dated: December 2, 2005.
L.M. Bynum,
OSD Federal Register Liaison Officer, Department of Defense.

[FR Doc. 05-23767 Filed 12-7-05; 8:45 am]

BILLING CODE 5001-06-M